DEPARTMENT OF TRANSPORTATION

Federal Aviation Administration

[Docket No. FAA-2003-14594]

14 CFR Part 121

Operating Requirements: Domestic, Flag, and Supplemental Operations; Petition for Rulemaking

AGENCY: Federal Aviation Administration (FAA), DOT.

ACTION: Notice of a petition for rulemaking.

SUMMARY: This document contains a summary of a petition for rulemaking from the Air Transport Association of America, Inc. to change certain specified requirements of 14 CFR. The purpose of this document is to improve the public's awareness of, and participation in, this aspect of FAA's regulatory activities. Neither publication of this document nor the inclusion or omission of information in the summary is intended to affect the legal status of any petition or its final disposition. Although 14 CFR part 11 does not require the publication of a summary for a petition to amend a regulation, we have determined that the public should be afforded the opportunity to comment on this issue.

DATES: Comments on the petition received must identify the petition docket number involved and must be received on or before December 26, 2003.

ADDRESSES: You may submit comments to DMS Docket Number FAA-2003-14594 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal Rulemaking Portal: Go to http://www.regulations.gov. Follow the online instructions for submitting comments.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: Sandy Buchanan-Sumter (202) 267-7271, Office of Rulemaking (ARM-1), Federal Aviation Administration, 800 Independence Avenue, SW., Washington, DC 20591.

Petition

Docket No.: FAA-2003-14594.

Petitioner: Air Transport Association of America, Inc.

Section of 14 CFR Affected: 14 CFR 121.391(a) and 121.393(b)

Description of Change Sought: The proposed amendment would permit a flight attendant to communicate with company or airport personnel via the jet bridge telephone located adjacent to the aircraft door while passengers are boarding, deplaning, or are on board, in order to perform safety, security, and/or passenger service duties. The amendment would reduce the number of required flight attendants onboard the aircraft while the aircraft is on the ground and stationary.

Section 121.391 states:

(a) Each certificate holder shall provide at least the following flight attendants on each passenger-carrying airplane used:

(1) For airplaines having a maximum payload capacity of more than 7,500 pounds and having a seating capacity of more than 9 but less than 51 passengers—one flight attendant.

(2) For airplanes having a maximum payload capacity of 7,500 pounds or less and having a seating capacity of more than 19 but less than 51 passengers—one flight attendant.

(3) For airplanes having a seating capacity of more than 50 but less than 101 passengers—two flight attendants.

(4) For airplanes having a seating capacity of more than 100 passengers—two flight attendants plus one additional flight attendant for each unit (or part of a unit) of 50 passenger seats above a seating capacity of 100 passengers

Section 121.393 states:

(b) On each airplane for which flight attendants are required by § 121.391(a), but the number of flight attendants remaining on board is fewer than required by § 121.391(a), the certificate holder must meet the following requirements:

(1) The certificate holder shall ensure that:

(i) The airplane engines are shut down;

(ii) At least one floor level exit remains open to provide for the deplaning of passengers; and

(iii) The number of flight attendants on board is at least half the number required by § 121.391(a), rounded down to the next lower number in the case of fractions, but never fewer than one.

(2) The certificate holder may substitute for the required flight attendants other persons qualified in the emergency evacuation procedures for that aircraft as required in § 121.417, if these persons are identified to the passengers.

(3) If only one flight attendant or other qualified person is on board during a stop, that flight attendant or other qualified person shall be located in accordance with the certificate holder's FAA-approved operating procedures. If more than one flight attendant or other qualified person is on board, the flight attendants or other qualified persons shall be spaced throughout the cabin to provide the most effective assistance for the evacuation in case of an emergency.

The FAA invites interested persons to participate in this rulemaking by submitting comments, data, or views. We specifically invite comments relating to how a reduced number of flight attendants onboard: (1) will provide adequate passenger supervision and safety while the airplane is on the ground and stationary; and (2) Will allow for the effective deplaning of passengers should an emergency situation arise.

Before acting on this petition for rulemaking, we will consider all comments we receive on or before the closing date for comments. We will consider comments filed late if it is possible to do so without incurring expense or delay.

Issued in Washington, DC, on October 20, 2003.
James J. Ballough,
Director, Flight Standards Service.

[FR Doc. 03-27055 Filed 10-22-03; 5:01 pm]

BILLING CODE 4910-13-P